DEPARTMENT OF TRANSPORTATION

National Highway Traffic Safety Administration

[Docket No. NHTSA-2007-27111; Notice 1]

Baby Trend, Inc., Receipt of Petition for Decision of Inconsequential Noncompliance

Baby Trend, Inc. (Baby Trend) has determined that certain infant car seats that it produced in 2006 do not comply with S5.1.2.1(b) of 49 CFR 571.213, Federal Motor Vehicle Safety Standard (FMVSS) No. 213, “Child Restraint Systems.” Baby Trend has filed an appropriate report pursuant to 49 CFR Part 573, “Defect and Noncompliance Reports.”

Pursuant to 49 U.S.C. 30118(d) and 30120(h), Baby Trend has petitioned for an exemption from the notification and remedy requirements of 49 U.S.C. Chapter 301 on the basis that this noncompliance is inconsequential to motor vehicle safety.

This notice of receipt of Baby Trend's petition is published under 49 U.S.C. 30118 and 30120 and does not represent any agency decision or other exercise of judgment concerning the merits of the petition.

Affected are a total of approximately 30,450 infant car seats produced between June 21, 2006 and November 30, 2006. FMVSS No. 213, S5.1.2.1(b) requires the following statements on child restraints: For recall information, call the U.S. Government's Vehicle Safety Hotline at 1-888-327-4236 (TTY: 1-800-424-9153), or go to http://www.NHTSA.gov.

The infant car seats do not have the markings required by S5.1.2.1(b). Baby Trend has corrected the problem that caused these errors so that they will not be repeated in future production.

Baby Trend believes that the noncompliance is inconsequential to motor vehicle safety and that no corrective action is warranted. Baby Trend states that the child restraint seats comply with the stringent dynamic performance requirements of FMVSS No. 213. Baby Trend does not believe that a safety consequence exists for the technical labeling non-compliance. Further, they believe that given the existing lag time, the use of older information remains a viable means for contacting the National Highway Traffic Safety Administration (NHTSA). Although telephone exchanges have changed, NHTSA still forwards calls in an integrated manner to provide consumer service to the general population. In addition, Baby Trend states that the use of the internet, improvements to NHTSA's websites, and the implementation of the integrated www.recall.gov website allow consumers interested in contacting NHTSA to do so more effectively than ever before.

Interested persons are invited to submit written data, views, and arguments on this petition. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 a.m. to 5 p.m. except Federal holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: March 19, 2007.

(Authority: 49 U.S.C. 30118, 30120: delegations of authority at CFR 1.50 and 501.8)

Issued on: February 9, 2007.
Claude H. Harris,
Director, Office of Vehicle Safety Compliance.

[FR Doc. E7-2809 Filed 2-15-07; 8:45 am]

BILLING CODE 4910-59-P